DEPARTMENT OF HOMELAND SECURITY

Bureau of Customs and Border Protection

Notice of Cancellation of Customs Broker National Permit

AGENCY: Bureau of Customs and Border Protection, U.S. Department of Homeland Security.

ACTION: General Notice.

SUMMARY: Pursuant to section 641 of the Tariff Act of 1930, as amended, (19 U.S.C. 1641) and the Customs Regulations (19 CFR 111.51), the following Customs broker national permits are canceled without prejudice.

Name | Permit No. | Issuing port
J.E. Lowden & Co | 99-00190 | Headquarters.
Word Asia Logistics, Inc | 99-00281 | Headquarters.

Dated: October 8, 2004.
Jayson P. Ahern,
Assistant Commissioner, Office of Field Operations.

[FR Doc. 04-23805 Filed 10-22-04; 8:45 am]

BILLING CODE 4820-02-P